DEPARTMENT OF THE INTERIOR

Bureau of Land Management

[CO-172-02-5440-EQ-C028]

Notice of Intent To Prepare an Environmental Impact Statement (EIS) and Amendment to the San Juan/San Miguel Resource Management Plan (RMP) for a Proposed Ski Area Near Silverton, CO

AGENCY: Bureau of Land Management, Interior.

ACTION: Notice of intent. This notice will initiate a public scoping period.

SUMMARY: Pursuant to Section 202 of the Federal Land Policy and Management Act of 1976 (FLPMA) and Section 102(2)(C) of the National Environmental Policy Act of 1969 (NEPA), the Bureau of Land Management (BLM) will prepare, by a third-party contractor, an EIS on a proposed ski area in southwestern Colorado CoreMountain Enterprises, LLC, proposes to use approximately 1,300 acres of BLM managed public land, combined with about 400 acres of their private lands, for a downhill ski area located about 5 miles north of Silverton, Colorado. The proposed action may be modified, as a result of comments received during scoping or during the preparation of the draft EIS.

The proposed action will require a plan amendment if it results in a change in the scope of resource uses or decisions in the San Juan/San Miguel RMP.

DATES: Written comments will be accepted until October 3, 2002. If the agency determines that public scoping meetings are needed, all parties on the project's mailing list will be notified through written correspondence. Additionally, public notices for these scoping meetings will be placed in local newspapers two weeks prior to the meetings.

ADDRESSES: Comments should be sent to Bureau of Land Management, San Juan Public Lands Center, Columbine Field Office, 15 Burnett Court, Durango, Colorado 81301.

FOR FURTHER INFORMATION CONTACT: Richard Speegle, Team Leader, Columbine Field Office, at (970) 375-3310.

SUPPLEMENTARY INFORMATION: On August 9, 2001, Core Mountain Enterprises, LLC (Silverton Outdoor Learning and Recreation Center) submitted a proposal for a ski area and recreation/learning facility, titled the “Silverton Outdoor Learning and Recreation Center” (SOLRC) on public lands north of Silverton, Colorado. The scope of the proposal includes lift-accessed skiing, snow boarding, and winter related educational courses; and hiking, mountain biking and lift-accessed scenic chairlift rides during the summer months. Seasonal foot bridges would be installed across Cement Creek for skier access. In addition, a toilet facility and two summer use trails (one would be a mountaineering trail, the other a hiking/biking trail) would be constructed. The proposed project area encompasses about 400 acres of private land, owned by Core Mountain Enterprises, LLC, and about 1,300 acres of Federal lands managed by the BLM, located within sections 20-21, 27-34 of protracted Township 42 N., R.7 W., and, also within sections 3-9 of protracted Township 41 N., R. 7 W., New Mexico Principal Meridian.

During the fall of 2001, while this proposal was being evaluated through the Environmental Assessment (EA) process, potentially significant impacts were identified that necessitate preparation of an EIS. Potential issues to be addressed in the EIS include, but are not limited to, avalanche safety, Canada lynx habitat, impacts on the local winter economy, impacts to neighboring private lands, and the need for temporary public access closures due to safety reasons related to avalanche control. As part of the earlier EA process, public meetings were held in Durango and Silverton to discuss the proposal and obtain public input. Written comments received during the previous public meetings held in Durango and Silverton,Colorado, in August of 2001, are being carried forward as part of the scoping for this EIS. It is not necessary to comment again if comments are the same as during the original EA scoping process. This notice initiates an additional formal 30-day public scoping period during which public comments related to the issues to be addressed, viable alternatives that should be considered, and potential impacts that may occur are requested. The San Juan County Commissioners and the Silverton City Council have been consulted concerning this proposal and are supportive. Consultation will continue as new issues or alternatives develop through the EIS process.

Detailed and supplementary information is available for review at the office of the Bureau of Land Management, San Juan Field Office, 15 Burnett Court, Durango, Colorado 81301.

Thurman H. Wilson,
Acting Center Manager, San Juan Public Lands Center.

[FR Doc. 02-22403 Filed 8-30-02; 8:45 am]

BILLING CODE 4310-JB-P